DEPARTMENT OF COMMERCE

National Oceanic and Atmospheric Administration

RIN 0648-XB008

South Atlantic Fishery Management Council; Public Meetings

AGENCY: National Marine Fisheries Service (NMFS), National Oceanic and Atmospheric Administration (NOAA), Commerce.

ACTION: Notice of public meetings.

SUMMARY: The South Atlantic Fishery Management Council will hold meetings of its: Law Enforcement Advisory Panel; Ad Hoc Data Collection Committee; Law Enforcement Committee; Spiny Lobster Committee; Ecosystem-Based Management Committee; King and Spanish Mackerel Committee; Shrimp Committee; Information and Education Committee; Executive Finance Committee; Southeast Data, Assessment and Review (SEDAR) Committee; Golden Crab Committee; Catch Shares Committee; Snapper Grouper Committee; and a meeting of the Full Council. The Council will take action as necessary.

The Council will hold an informal public question and answer session regarding agenda items and a public comment session. See SUPPLEMENTARY INFORMATION for additional details.

DATES: The Council meeting will be held March 5-9, 2012. See SUPPLEMENTARY INFORMATION for specific dates and times.

ADDRESSES: The meeting will be held at the Savannah Hilton DeSoto, 15 East Liberty Street, Savannah, GA 31401; telephone: (1-877) 280-0751 or (912) 232-9000; fax: (912) 232-6018. Copies of documents are available from Kim Iverson, Public Information Officer, South Atlantic Fishery Management Council, 4055 Faber Place Drive, Suite 201, North Charleston, SC 29405.

FOR FURTHER INFORMATION CONTACT: Kim Iverson, Public Information Officer; telephone: (843) 571-4366 or toll free at (866) SAFMC-10; fax: (843) 769-4520; email: kim.iverson@safmc.net.

SUPPLEMENTARY INFORMATION:

Meeting Dates

1. Law Enforcement Advisory Panel Meeting: March 5, 2012, 1:30 p.m. Until 5 p.m.

The Law Enforcement Advisory Panel (AP) will receive an update on recent amendments and review and develop comments on the following amendments: Snapper Grouper Amendment 18B (golden tilefish); Snapper Grouper Regulatory Amendment 12 (framework action to adjust the golden tilefish Annual Catch Limit (ACL), Optimum Yield (OY) and Annual Catch Target (ACT) in the fishery); Comprehensive Ecosystem-Based Amendment 3; Snapper Grouper Amendment 20B (wreckfish Individual Transferable Quota (ITQ) program modifications); Spiny Lobster Amendment 11 (weather-related fishery closures and a revised Minimum Stock Size Threshold (MSST) for pink shrimp); and Golden Crab Amendment 6 (catch share program for the commercial fishery). The AP will also begin the process for the 2011 Law Enforcement Officer of the Year award.

Note: Concurrent Session.

2. Ad Hoc Data Collection Committee Meeting: March 5, 2012, 1:30 p.m. Until 5 p.m.

The Ad Hoc Data Collection Committee will discuss the joint South Atlantic/Gulf Council dealer permits and review commercial and for-hire vessel reporting requirements in the South Atlantic.

3. Law Enforcement Committee Meeting: March 6, 2012, 8:30 a.m. Until 9:30 a.m.

The Law Enforcement Committee will receive a report from the Law Enforcement AP and discuss other issues as appropriate.

4. Spiny Lobster Committee Meeting: March 6, 2012, 9:30 a.m. Until 10:30 a.m.

The Spiny Lobster Committee will receive an overview of Spiny Lobster Amendment 11, which includes measures to help protect threatened/endangered species. These measures include area closures for the commercial trap fishery to protect corals and gear marking requirements for trap lines. The Committee will also review public hearing comments and Supplemental Draft Environmental Impact Statement (SDEIS) comments and modify Amendment 11 as appropriate. The Committee will provide recommendations to Council.

5. Ecosystem-Based Management Committee Meeting: March 6, 2012, 10:30 a.m. Until 3 p.m.

The Ecosystem-Based Management Committee will receive updates on: The status of catches versus quota for octocorals; the status of Comprehensive Ecosystem-Based Amendment 2; the Florida Keys National Marine Sanctuary Strategic Plan; and public scoping comments for Comprehensive Ecosystem-Based Amendment 3 (CE-BA3). The Committee will develop recommendations for CE-BA3, give an update on ecosystem activities, and provide direction to staff.

6. King and Spanish Mackerel Committee Meeting: March 6, 2012, 3 p.m. Until 5 p.m.

The King and Spanish Mackerel Committee will receive updates on the status of catches versus quotas for species under quota management and the status of Mackerel Amendment 18, which establishes ACLs and Accountability Measures (AMs) for mackerel and cobia. The Committee will also receive a presentation on king mackerel tournament sales of fish and will select items to include in the joint South Atlantic and Gulf Mackerel Amendments 20 and 21. The Committee will provide guidance to staff and recommendations to Council.

7. Shrimp Committee Meeting: March 7, 2012, 8:30 a.m. Until 10 a.m.

The Shrimp Committee will review scoping comments for Shrimp Amendment 9, which would expedite the closure process during severe cold events in order to protect overwintering shrimp populations and would revise the MSST proxy for pink shrimp. The Committee will take action as appropriate and provide guidance to staff.

8. Information and Education Committee Meeting: March 7, 2012, 10 a.m. Until 11 a.m.

The Information and Education Committee will review the recommendations from the Snapper Grouper AP relating to outreach and will receive presentations on the use of social media tools. Additionally, the Committee will receive a review of the recent public hearing and scoping meetings and discuss options for future meetings. The Committee will provide recommendations as appropriate.

9. Executive Finance Committee Meeting: March 7, 2012, 11 a.m. Until 12 Noon

The Executive Finance Committee will: Receive a report on the Council Year (CY) 2012 Council expenditures; review and approve the draft CY2012 Council activities schedule and budget; and review the President's 2013 budget proposal.

10. SEDAR Committee Meeting: March 7, 2012, 1:30 p.m. Until 3:30 p.m.

The SEDAR Committee will receive an overview of SEDAR activities and review SEDAR assessment priorities. The Committee will also receive a presentation on the Marine Recreational Information Program (MRIP) Electronic Logbook Pilot Study, a report on recent MRIP workshops and a report on revised MRIP catch estimates. The Committee will discuss and develop recommendations for the next SEDAR Steering Committee meeting.

11. Golden Crab Committee Meeting: March 7, 2012, 3:30 p.m. Until 5:30 p.m.

The Golden Crab Committee will review: The status of commercial catches versus quotas (amount landed to date); public hearing comments on Golden Crab Amendment 6; Golden Crab AP recommendations; and staff modifications to the amendment. The Committee will provide direction to staff and recommendations to the Council for approving the amendment for Secretarial review and approval.

Note: There will be an informal public question and answer session with the NMFS Regional Administrator and the Council Chairman on March 7, 2012, beginning at 5:30 p.m.

12. Catch Shares Committee Meeting: March 8, 2012, 8:30 a.m. Until 10 a.m.

The Catch Shares Committee will receive a presentation on a voluntary catch share program and take action as appropriate.

13. Snapper Grouper Committee Meeting: March 8, 2012, 10 a.m. Until 5 p.m.

The Snapper Grouper Committee will receive updates on the status of catches versus quotas for species under quota management and address any necessary actions as the result of these reports. The Committee will receive a report on Oculina research activities and updates on the status of amendments under review, including: Regulatory Amendment 11, which proposes elimination of the current 240′ restriction on the harvest of some deepwater species within the snapper grouper management unit; the Comprehensive Annual Catch Limit (ACL) Amendment, which establishes ACL and AM for species that are not currently undergoing overfishing; Amendment 24 establishing a rebuilding plan for red grouper; Amendment 18A addressing black sea bass management and data collection; and Amendment 20A pertaining to the wreckfish ITQ program.

The Committee will also review Amendment 18B that includes measures to limit participation in the commercial golden tilefish fishery. The Committee will receive a summary of comments from recent public hearings, choose preferred alternatives for actions, modify the amendment as appropriate and provide recommendations to the Council. Additionally, the Committee will receive an overview of Regulatory Amendment 12 regarding a framework action to adjust the golden tilefish ACL, OY and ACT based on the most recent stock assessment. The Committee will choose preferred alternatives and modify the amendment as appropriate. The Committee will discuss limiting the number of black sea bass commercial trips, receive an overview of Amendment 20B addressing modifications to the wreckfish ITQ program, discuss relevant actions in CE-BA3, receive a presentation on National Marine Protected Areas (MPA), and provide recommendations as appropriate.

Note: A public comment session will be held on March 8, 2012, beginning at 5:30 p.m., on Snapper Grouper Amendment 18B, Snapper Grouper Regulatory Amendment 11, Snapper Grouper Regulatory Amendment 12 (framework action adjusting the golden tilefish ACL), Golden Crab Amendment 6, and Spiny Lobster Amendment 11, followed by comment on any other item on the agenda.

Council Session: March 9, 2012, 8:30 a.m. Until 1:30 p.m.

From 8:30 a.m. until 8:45 a.m., the Council will call the meeting to order, adopt the agenda, and approve the December 2011 meeting minutes.

From 8:45 a.m. until 9 a.m., the Council will receive a report from the Ad Hoc Data Collection Committee, consider recommendations and take action as appropriate.

From 9 a.m. until 9:15 a.m., the Council will receive a report from the Law Enforcement Committee, consider recommendations and take action as appropriate.

From 9:15 a.m. until 9:30 a.m., the Council will receive a report from the Spiny Lobster Committee, approve Spiny Lobster Amendment 11 for formal Secretarial review and approval, consider recommendations and take action as appropriate.

From 9:30 a.m. until 9:45 a.m., the Council will receive a report from the Ecosystem-Based Management Committee, consider recommendations and take action as appropriate.

From 9:45 a.m. until 10 a.m., the Council will receive a report from the King and Spanish Mackerel Committee, approve Mackerel Amendments 20 and 21 for public scoping, consider other recommendations and take action as appropriate.

From 10 a.m. until 10:15 a.m., the Council will receive a report from the Shrimp Committee, consider recommendations and take action as appropriate.

From 10:15 a.m. until 10:30 a.m., the Council will receive a report from the Information and Education Committee, consider recommendations and take action as appropriate.

From 10:30 a.m. until 10:45 a.m., the Council will receive a report from the Executive Finance Committee, approve the CY2012 activities schedule and budget, consider recommendations and take action as appropriate.

From 10:45 a.m. until 11 a.m., the Council will receive a report from the SEDAR Committee, consider recommendations and take action as appropriate.

From 11 a.m. until 11:15 a.m., the Council will receive a report from the Golden Crab Committee, approve Golden Crab Amendment 6 for formal Secretarial review and approval, consider other recommendations and take action as appropriate.

From 11:15 a.m. until 11:30 a.m., the Council will receive a report from the Catch Shares Committee, consider recommendations and take action as appropriate.

From 11:30 a.m. until 12 noon, the Council will receive a report from the Snapper Grouper Committee, approve Snapper Grouper Amendment 18B and Regulatory Amendment 12 for formal Secretarial review and approval, consider other recommendations and take action as appropriate.

From 12 noon until 1:30 p.m., the Council will receive status reports from the NOAA Fisheries Southeast Regional Office, NOAA Fisheries Southeast Science Center, review and develop recommendations on Experimental Fishing Permits as necessary, review agency and liaison reports, and discuss other business, including upcoming meetings.

Documents regarding these issues are available from the Council office (see ADDRESSES).

Although non-emergency issues not contained in this agenda may come before this Council for discussion, those issues may not be the subjects of formal final Council action during these meetings. Council action will be restricted to those issues specifically listed in this notice and any issues arising after publication of this notice that require emergency action under section 305(c) of the Magnuson-Stevens Act, provided the public has been notified of the Council's intent to take final action to address the emergency.

Except for advertised (scheduled) public hearings and public comment, the times and sequence specified on this agenda is subject to change.

Special Accommodations

These meetings are physically accessible to people with disabilities. Requests for sign language interpretation or other auxiliary aids should be directed to the Council office (see ADDRESSES) by February 24, 2012.

Dated: February 13, 2012.
Tracey L. Thompson,
Acting Director, Office of Sustainable Fisheries, National Marine Fisheries Service.

[FR Doc. 2012-3670 Filed 2-15-12; 8:45 am]

BILLING CODE 3510-22-P